DEPARTMENT OF TRANSPORTATION

Maritime Administration

U.S. Merchant Marine Academy Board of Visitors; Public Meeting

AGENCY: Maritime Administration, DOT.

ACTION: Notice of public meeting.

SUMMARY: The U.S. Department of Transportation, Maritime Administration announces that the U.S. Merchant Marine Academy (USMMA) will hold a meeting of the USMMA Board of Visitors (BOV). The meeting will be available in-person at USMMA with a virtual component available.

DATES: May 13, 2022, from 1:00 p.m. to 3:00 p.m. EST.

Requests to attend the meeting must be received by May 8, 2022. Permission to attend in-person will be based on space available. Requests will be taken as they are received until available spaces are full. After on-campus seating space in the meeting room has been exhausted, all others desiring to attend will be able to join the virtual session.

Requests to submit written materials to be reviewed during the meeting must be received no later than May 3, 2022.

Requests for accommodations for a disability must be received by May 8, 2022.

USMMA will post virtual meeting access details no later than May 10, 2022, via its website and Social Media channels.

ADDRESSES: The meeting will be held in the Schuyler Otis Bland Library's Crabtree Conference Room on May 13, 2022, from 1:00 p.m. to 3:00 p.m. EST. General information about the committee, is available on the USMMA BOV internet website at https://www.usmma.edu/about/leadership/board-visitors. Meeting access information will also be available at https://www.usmma.edu/ on the date specified in the DATE section above.

FOR FURTHER INFORMATION CONTACT: The BOV's Designated Federal Officer and Point of Contact, George Rhynedance, 516-726-6048 or rhynedanceg@usmma.edu.

SUPPLEMENTARY INFORMATION:

I. Background

The USMMA BOV is a Federal Advisory Committee originally established as a Congressional Board by Section 51312 of Title 46, United States Code “to provide independent advice and recommendations on matters relating to the United States Merchant Marine Academy.” The Board was originally chartered under the Federal Advisory Committee Act (FACA) on October 24, 2017.

II. Agenda

The meeting agenda will cover, but is not limited to, the following proposed topics:

1. Board maintenance items (elections, minutes, reports, etc.);

2. Update on Sea Year Pause and EMBARC program;

3. Update on the six priorities from the USMMA Strategic Plan (including COVID since the last meeting, infrastructure and modernization progress, Sexual Assault Prevention and Response program status);

4. Update on the Class of 2025; and

5. Update on the state of the Regiment of Midshipmen.

III. Public Participation

This meeting is open to the public and will be held physically at the Academy and through a virtual forum. Members of the public who wish to attend in-person must RSVP to the person listed in the FOR FURTHER INFORMATION CONTACT section with their name and affiliation. Permission to attend will be based on space available. Requests will be taken as they are received until available spaces are full. After on-campus seating space in the meeting conference room has been exhausted, all others desiring to attend will be able to join the virtual session. The U.S. Department of Transportation is committed to providing equal access to this meeting for all participants. If you need alternative formats or services because of a disability, such as sign language, interpretation, or other ancillary aids, please contact the person listed in the FOR FURTHER INFORMATION CONTACT section.

Any member of the public is permitted to file a written statement with the BOV. Written statements should be sent to the Designated Federal Officer listed in the FOR FURTHER INFORMATION CONTACT section no later than May 3, 2022.

Only written statements will be considered by the BOV; no member of the public will be allowed to present questions from the floor or speak during the meeting unless requested to do so by a member of the Board.

The meeting notice shall be placed in the Federal Register no later than 15 days prior to the scheduled date of the meeting, as required by 41 CFR part 102-3.150.

(Authority: 46 U.S.C. 51312; 5 U.S.C. 552b; 5 U.S.C. app. 2; 41 CFR parts 102-3.140 through 102-3.165).

By Order of the Acting Maritime Administrator.
T. Mitchell Hudson, Jr.,
Secretary, Maritime Administration.

[FR Doc. 2022-09002 Filed 4-26-22; 8:45 am]

BILLING CODE 4910-81-P